DEPARTMENT OF ENERGY

Federal Energy Regulatory Commission

Notice of Application Tendered for Filing with the Commission, Soliciting Additional Study Requests, and Establishing Procedures for Relicensing and a Deadline for Submission of Final Amendments

December 26, 2002.

Take notice that the following hydroelectric application has been filed with the Commission and is available for public inspection.

a. Type of Application: New Major License.

b. Project No.: 2207-009.

c. Date Filed: December 18, 2002.

d. Applicant: Mosinee Paper Corporation.

e. Name of Project: Mosinee Hydroelectric Project.

f. Location: On the Wisconsin River in the town of Mosinee, Marathon County, Wisconsin. The project does not utilize lands of the United States.

g. Filed Pursuant to: Federal Power Act 16 U.S.C. 791 (a)-825(r).

h. Applicant Contact: Mr. Jeff Verdoorn, Mosinee Paper Corporation, 100 Main Street, Mosinee, Wisconsin. 54455 (715) 693-2111.

i. FERC Contact: Michael Spencer, michael.spencer@ferc.gov, (202) 502-6093.

j. Cooperating Agencies: We are asking Federal, State, and local agencies and Indian tribes with jurisdiction and/or special expertise with respect to environmental issues to cooperate with us in the preparation of the environmental document. Agencies who would like to request cooperating status should follow the instructions for filing comments described in item k below.

k. Pursuant to Section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for filing additional study requests and requests for cooperating agency status: February 16, 2003.

All documents (original and eight copies) should be filed with: Magalie Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the internet in lieu of paper. The Commission strongly encourages electronic filings. See 18 CFR 385.2001(a)(1)(iii) and the instructions on the Commission's Website at (http://www.ferc.gov) under the “e-filing link.

m. This application is not ready for environmental analysis at this time.

n. Description of Project: The existing Mosinee Project consists of: (1) Three dam sections spanning between bedrock islands; (2) a 1,277-acre reservoir; (3) a powerhouse with an total installed capacity of 3,050-kilowatts and (4) appurtenant facilities. The applicant estimates that the average annual generation is 23,680 megawatthours.

o. A copy of the application is available for review at the Commission in the Public Reference Room or may be viewed on the Commission's Web site at http://www.ferc.gov using the “FERRIS” link. Enter the docket number excluding the three digits in the docket number field to access the document. For assistance, call (202) 502-8222 or for TTY (202) 502-6157. A copy is also available for inspection and reproduction at the address in item h above.

p. With this notice, we are initiating consultation with the Wisconsin State Historic Preservation Officer (SHPO), as required by § 106, National Historic Preservation Act, and the regulations of the Advisory Council on Historic Preservation, 36 CFR 800.4.

Note: The above paragraph initiating consultaion with the SHPOs may be unnecessary if that language was included in the pre-filing notice requesting preliminary terms and conditions.

q. Procedural schedule and final amendments: The application should be processed according to the following Hydro Licensing Schedule. Revisions to the schedule will be made as appropriate.

Issue Deficiency Letter—February 2003

Issue Acceptance Letter—May 2003

Issue Scoping Document for Comments—June 2003

Request Additional Information—August 2003

Issue Scoping Document 2 for Comments—September 2003

Notice of application is ready for environmental analysis—March 2004

Notice of the availability of the EA—September 2004

Ready for Commission's decision on the Application—December 2004

Final amendments to the application must be filed with the Commission no later than 30 days from the issuance date of the notice of ready for environmental analysis.

Linwood A. Watson, Jr.,
Deputy Secretary.

[FR Doc. 02-33053 Filed 12-31-02; 8:45 am]

BILLING CODE 6717-01-P